DEPARTMENT OF HOMELAND SECURITY

Coast Guard

33 CFR Part 117

[CGD01-04-063]

Drawbridge Operation Regulations: Taunton River, MA

AGENCY: Coast Guard, DHS.

ACTION: Notice of temporary deviation from regulations and request for comment.

SUMMARY: The Commander, First Coast Guard District, has issued a temporary 90-day deviation from the drawbridge operation regulations to test an alternate drawbridge operation regulation for the Brightman Street Bridge, at mile 1.8, across the Taunton River between Fall River and Somerset, Massachusetts. Under this temporary 90-day deviation the draw need not open for pleasure craft traffic from 7 a.m. to 9:30 a.m. and from 4 p.m. to 6:30 p.m., Monday through Friday, July 1, 2004 through September 28, 2004. The draw shall open for vessels engaged in commercial service on signal at all times. The purpose of this temporary deviation is to test an alternate drawbridge operation schedule for 90-days and solicit comment from the public.

DATES: This deviation is effective from July 1, 2004 through September 28, 2004. Comments must reach the Coast Guard on or before October 15, 2004.

ADDRESSES: You may mail comments to Commander (obr), First Coast Guard District Bridge Branch, 408 Atlantic Avenue, Boston, Massachusetts, 02110, or deliver them to the same address between 7 a.m. and 3 p.m., Monday through Friday, except, Federal holidays. The telephone number is (617) 223-8364. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

Request for Comments

We encourage you to participate in this test deviation by submitting comments or related material. If you do so, please include your name and address, identify the docket number for this rulemaking (CGD01-04-063), indicate the specific section of this document to which each comment applies, and give the reason for each comment. Please submit all comments and related material in an unbound format, no larger than 8½ by 11 inches, suitable for copying. If you would like to know if they reached us, please enclose a stamped, self-addressed postcard or envelope. We will consider all comments and material received during the comment period in deciding whether to propose a permanent schedule change.

FOR FURTHER INFORMATION CONTACT: John McDonald, Project Officer, First Coast Guard District, at (617) 223-8364.

SUPPLEMENTARY INFORMATION: The Brightman Street Bridge has a vertical clearance in the closed position of 27 feet at mean high water and 31 feet at mean low water. The existing drawbridge operation regulations are listed at 33 CFR 117.619(b).

The Town of Somerset, Massachusetts, and the Massachusetts State Police asked the Coast Guard and the bridge owner Massachusetts Highway Department for assistance with vehicular traffic delays resulting form unregulated bridge openings at the Brightman Street Bridge.

The Coast Guard in response to the above request is temporarily changing the drawbridge operation regulations for 90-days to test an alternate drawbridge operation schedule.

Under this temporary 90-day deviation the bridge need not open for pleasure craft traffic from 7 a.m. to 9:30 a.m. and from 4 p.m. to 6:30 p.m., Monday through Friday, July 1, 2004 through September 28, 2004. Commercial vessel traffic shall be passed on signal at all times.

This action is expected to provide relief to the vehicular traffic delays while still meeting the reasonable needs of navigation.

This deviation from the operating regulations is authorized under 33 CFR 117.43.

Dated: June 10, 2004.
John L. Grenier,
Captain, U.S. Coast Guard, Acting Commander, First Coast Guard District.

[FR Doc. 04-14370 Filed 6-23-04; 8:45 am]

BILLING CODE 4910-15-P